DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP).

DATES: The date of December 1, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Barrow County, Georgia and Incorporated Areas
Docket No.: FEMA-B-2154
City of Auburn | City Hall, 1369 4th Avenue, Auburn, GA 30011.
City of Statham | Planning and Zoning Department, 327 Jefferson Street, Statham, GA 30666.
City of Winder | City Hall, 25 East Midland Avenue, Winder, GA 30680.
Town of Bethlehem | City Hall, 750 Manger Avenue, Bethlehem, GA 30620.
Town of Braselton | Town Hall, 4982 Highway 53, Braselton, GA 30517.
Town of Carl | Carl City Hall, 1690 Carl-Bethlehem Road, Auburn, GA 30011.
Unincorporated Areas of Barrow County | Barrow County Historic Courthouse, 30 North Broad Street, Winder, GA 30680.
Hall County, Georgia and Incorporated Areas
Docket No.: FEMA-B-2154
City of Flowery Branch | City Hall, 5410 West Pine Street, Flowery Branch, GA 30542.
City of Gainesville | Department of Water Resources Administration Building, 757 Queen City Parkway, Gainesville, GA 30501.
City of Gillsville | City Hall, 6288 Highway 52, Gillsville, GA 30543.
City of Lula | City Hall, 6055 Main Street, Lula, GA 30554.
Town of Braselton | Town Hall, 4982 Highway 53, Braselton, GA 30517.
Unincorporated Areas of Hall County | Hall County Government Center, Engineering Division, 2875 Browns Bridge Road, Gainesville, GA 30504.
Pennington County, Minnesota and Incorporated Areas
Docket No.: FEMA-B-2051
City of St. Hilaire | City Hall, 302 North Broadway, St. Hilaire, MN 56754.
City of Thief River Falls | City Hall, 405 Third Street East, Thief River Falls, MN 56701.
Red Lake Band of Chippewa Tribe | Red Lake Nation Government Center, 15484 Migizi Drive, Red Lake, MN 56671.
Unincorporated Areas of Pennington County | Pennington County Courthouse, 101 Main Avenue North , Thief River Falls, MN 56701.
Ottawa County, Ohio and Incorporated Areas
Docket Nos.: FEMA-B-1806 and FEMA-B-2145
City of Port Clinton | City Hall, 1868 East Perry Street, Port Clinton, OH 43452.
Unincorporated Areas of Ottawa County | Ottawa County Regional Planning Office, 315 Madison Street, Room 107, Port Clinton, OH 43452.
Village of Marblehead | Village Hall, 513 West Main Street, Marblehead, OH 43440.
Village of Put-in-Bay | Village Hall, 157 Concord Avenue, Put-in-Bay, OH 43456.

[FR Doc. 2022-14768 Filed 7-11-22; 8:45 am]

BILLING CODE 9110-12-P